DEPARTMENT OF LABOR

Mine Safety and Health Administration

Petitions for Modification

The petition for modification notice we published in the Federal Register on August 22, 2005 (70 FR 48984) had the wrong MSHA I.D. Number (15-28826) for the Hopkins County Coal, LLC, Elk Creek Mine, docket number M-2005-059-C. The correct I.D. Number is 15-18826.

The following parties have filed petitions to modify the application of existing safety standards under section 101(c) of the Federal Mine Safety and Health Act of 1977.

1. Bridger Coal Company

[Docket No. M-2005-060-C]

Bridger Coal Company, P.O. Box 68, Point of Rocks, Wyoming 82942 has filed a petition to modify the application of 30 CFR 75.1100-2(e)(2) (Quantity and location of firefighting equipment) to its Bridger Underground Mine (MSHA I.D. No. 48-01646) located in Sweetwater County, Wyoming. The petitioner requests a modification of the existing standard to permit the use of two portable fire extinguishers or one extinguisher having at least twice the minimum capacity in 30 CFR 75.1100-1(e) at each temporary electrical installation at the Bridger Underground Mine. The petitioner asserts that the proposed alternative method would provide at least the same measure of protection as the existing standard.

2. Andalex Resources, Inc.

[Docket No. M-2005-061-C]

Andalex Resources, Inc., P.O. Box 902, Price, Utah 84501 has filed a petition to modify the application of 30 CFR 75.500(d) (Permissible electric equipment) to its Aberdeen Mine (MSHA I.D. No. 42-02028) located in Carbon County, Utah. The petitioner requests a modification of the existing standard to permit the use of low-voltage or battery-powered non-permissible, electronic testing, diagnostic equipment or other, in or inby the last open crosscut under controlled conditions. The petitioner proposes to use the following equipment or other within 150 feet of pillar workings: Laptop computers, oscilloscopes, vibration analysis machines, cable fault detectors, point temperature probes, infrared temperature devices, insulation testers (meggers), voltage, current power measurement devices and recorders, pressure and flow measurement devices, battery drills, signal analyzer device, ultrasonic thickness gauges, electronic component testers, and electronic tachometers, other testing diagnostic equipment that may be approved by the MSHA District Office. The petitioner asserts that the proposed alternative method would provide at least the same measure of protection as the existing standard.

3. Chino Mines Company

[Docket No. M-2005-006-M]

Chino Mines Company, P.O. Box 7, Hurley, New Mexico 88043 has filed a petition to modify the application of 30 CFR 56.6309 (Fuel oil requirements for ANFO) to its Chino Mine (MSHA I.D. No. 29-00708) located in Grant County, New Mexico. The petitioner proposes to use recycled waste oil blended with diesel fuel to produce ammonium nitrate-fuel oil for use as a blasting agent. The petitioner asserts that the proposed alternative method would provide at least the same measure of protection as the existing standard.

Request for Comments

Persons interested in these petitions are encouraged to submit comments via Federal eRulemaking Portal: http://www.regulations.gov; e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before October 3, 2005. Copies of these petitions are available for inspection at that address.

Dated at Arlington, Virginia, this 26th day of August 2005.
Rebecca J. Smith,
Acting Director, Office of Standards, Regulations, and Variances.

[FR Doc. 05-17478 Filed 9-1-05; 8:45 am]

BILLING CODE 4510-43-P